ENVIRONMENTAL PROTECTION AGENCY

[EPA-HQ-OPP-2010-0030; FRL-8809-5]

Pesticides; Availability of Updated Schedule for Registration Review

AGENCY: Environmental Protection Agency (EPA).

ACTION: Notice.

SUMMARY: EPA is announcing the availability of an updated schedule for the pesticide registration review program, the periodic review of all registered pesticides mandated by section 3(g) of the Federal Insecticide, Fungicide, and Rodenticide Act (FIFRA). The updated schedule provides the timetable for opening dockets for the next 4 years of the registration review program - FY 2010 to 2013-and includes information on the FY 2007 through FY 2009 registration review cases.

FOR FURTHER INFORMATION CONTACT: Kevin Costello, Pesticide Re-Evaluation Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0030. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

EPA is issuing an updated schedule for the registration review program, the Agency’s periodic review of all registered pesticides mandated by section 3(g) of FIFRA. This updated schedule provides the timetable for opening dockets for the next 4 years of the program, FY 2010 to FY 2013.

The Pesticide Registration Improvement Act of 2003 as amended in 2007 (PRIA II) requires EPA to complete registration review decisions by October 1, 2022 for all pesticides registered as of October 1, 2007. To ensure meeting this requirement, EPA will continue to open approximately 70 pesticide registration review dockets annually continuing through 2017, so that almost all pesticides registered at the start of the program will have dockets opened by 2017. Some biopesticide dockets will be opened in 2018 through 2020. The Agency anticipates that this scheduling will provide adequate lead times to complete registration review decisions by October 1, 2022 for all pesticides registered as of October 1, 2007. EPA expects a total of about 721 pesticide cases comprising 1,135 pesticide active ingredients to undergo registration review by 2022.

Each pesticide’s place on the schedule is generally determined by its baseline date — the date of its last substantive review — with the oldest cases going first. The baseline date for a pesticide that was subject to reregistration is the date of the Reregistration Eligibility Decision (RED). The baseline date for pesticides that were not subject to reregistration is the registration date of the first product containing the active ingredient. Although, the schedule generally is constructed chronologically, some registration review cases are grouped in the schedule for greater efficiency. For example, pesticides that are chemically related or use-related (e.g., organophosphate and carbamate chemical classes, the coppers group, and the pyrethroids, pyrethrins, and syngergists group) generally will be reviewed during the same time frame.

The updated registration review schedule reflects EPA’s decision to review all pesticides in two groups — the fumigants and the triazines — within the same time frame. In recent years, the Agency moved these pesticides ahead in the schedule so that dockets for all pesticides in these groups will open in FY 2013. While EPA is implementing risk mitigation decisions for the soil fumigants, new research is underway to address current data gaps and to refine understanding of factors that affect how fumigants move in the environment. New methods and technologies for fumigation are emerging. By moving the soil fumigants forward in registration review from 2017 to 2013, the Agency will be able to consider new data and new technologies sooner, determine whether mitigation included in its decisions is effectively addressing risks as EPA believes it will, and include other fumigants that were not part of the reregistration review of these pesticides.

EPA initiated a reevaluation of the triazine pesticide atrazine in fall 2009. Given the availability of new scientific information as well as the documented presence of atrazine in both drinking water sources and other bodies of water, EPA has determined it appropriate to consider the new research and to ensure that the Agency's regulatory decisions about atrazine protect health and the environment. EPA's reevaluation process is based on transparency and sound science, including independent scientific peer review. The current atrazine reevaluation will help address aspects of the atrazine registration review scheduled to begin in 2013 that involve human health risk assessment. As a result, the current reevaluation should reduce the scope and resources needed to complete the atrazine registration review.

The registration review schedule for FY 2010 to FY 2013 and an explanation of the schedule are available at: http://www.epa.gov/oppsrrd1/registration_review/schedule.htm. Information about the status of individual pesticides in registration review is available at: http://www.epa.gov/oppsrrd1/registration_review/reg_ review_status.htm. Background information on the registration review program is provided at: http://www.epa.gov/oppsrrd1/registration_review/.

B. What is the Agency's Authority for Taking this Action?

EPA is announcing this updated schedule for the registration review program as provided in 40 CFR 155.42(d) and 155.44 of the Procedural Regulations for Registration Review: Final Rule, document number EPA-HQ-OPP-2004-0404-0052 at: http://www.regulations.gov. The Agency may consider issues raised by the public or registrant when reviewing a posted schedule, to schedule a pesticide registration review, or to modify the schedule of a pesticide registration review as appropriate. This schedule will be updated at least once every year.

List of Subjects

Environmental protection, Agricultural commodities, Pesticides and pests.

Dated: June 7, 2010.
Richard P. Keigwin, Jr.,
Director, Pesticide Re-Evaluation Division, Office of Pesticide Programs.

[FR Doc. 2010-14517 Filed 6-15-10; 8:45 a.m.]

BILLING CODE 6560-50-S